OFFICE OF PERSONNEL MANAGEMENT

5 CFR Parts 550, 595, and 610

RIN 3206-AI61

Pay Administration; Back Pay; Holidays; and Physicians' Comparability Allowances

AGENCY: Office of Personnel Management.

ACTION: Final rule.

SUMMARY: The Office of Personnel Management is issuing final regulations to reflect three changes in law that are already effective. The final regulations clarify that back pay awards are subject to a 6-year statute of limitations unless a shorter statute of limitations period applies. They also reflect a change in the designation of holidays for certain Federal employees working overseas. Finally, they reflect an increase the maximum physicians' comparability allowance from $20,000 to $30,000 per year for employees who have served as a Government physician for more than 24 months.

DATES: Effective Date: The regulations are effective on September 6, 2000.

Applicability Dates: The regulations apply on the first day of the first pay period beginning on or after September 6, 2000.

FOR FURTHER INFORMATION CONTACT: James R. Weddel, (202) 606-2858, FAX: (202) 606-0824, or email: payleave@opm.gov.

SUPPLEMENTARY INFORMATION: These final regulations reflect three changes in law. Section 1104 of Public Law 105-261, the Strom Thurmond National Defense Authorization Act, 1999 (October 17, 1998), amends the back pay law (5 U.S.C. 5596(b)). Section 1104 adds a new provision to clarify that back pay awards are subject to a 6-year statute of limitations unless a shorter statute of limitations period applies. Section 1104 also adds a new provision to 5 U.S.C. 7121 to clarify that settlement of grievances and arbitration awards under 5 U.S.C. 7121 is subject to the same 6-year statute of limitations. This change in law became effective on October 17, 1998.

Section 7 of Public Law 105-266, the Federal Employees Health Care Protection Act of 1998 (October 19, 1998), amends 5 U.S.C. 5948(a). Section 7 increases the maximum physicians' comparability allowance (PCA) from $20,000 to $30,000 per year for an employee who has served as a Government physician for more than 24 months. Section 7 also provides that agencies may modify any PCA service agreement in effect on the effective date of the Act to increase the PCA for a physician up to the new maximum amount during the time remaining under the service agreement. However, section 7 provides that any modification of an existing service agreement to increase a PCA cannot cause the total PCA paid to the employee during the calendar year to exceed the new $30,000 maximum or any other applicable limitation (e.g., the aggregate limitation on pay under 5 U.S.C. 5307). These changes became effective on October 19, 1998. The Office of Management and Budget advises that agencies may authorize a PCA in excess of $20,000 only after revising their existing PCA plan and obtaining OMB approval of the changes.

Section 1107 of Public Law 105-261, the Strom Thurmond National Defense Authorization Act, 1999 (October 17, 1998), adds a new provision to 5 U.S.C. 6103 to change the designation of holidays for certain Federal employees who work at duty posts outside the United States. Section 1107 provides that whenever Monday is designated as a holiday under 5 U.S.C. 6103(a), the first regularly scheduled workday in the week is the holiday for a Federal employee at a duty post outside the United States whose basic workweek includes Monday, but is not the typical Monday through Friday work schedule found in the United States. The intent of this new provision of law is to create a 3-day weekend with a holiday on Sunday for Federal employees who work Sunday through Thursday with nonworkdays on Friday and Saturday. This change in law became effective on October 17, 1998.

Interim regulations to reflect these three changes in law were published in the Federal Register on December 28, 1999 (64 FR 72457). The Federal Register notice provided that OPM must receive comments on the interim regulations within 60 days, or by February 28, 2000. No comments were received on the interim regulations. Therefore, the interim regulations are adopted as final without any substantive changes.

E.O. 12866, Regulatory Review

The Office of Management and Budget has reviewed this rule in accordance with Executive Order 12866.

Regulatory Flexibility Act

I certify that these regulations will not have a significant economic impact on a substantial number of small entities because they will apply only to Federal agencies and employees.

List of Subjects in 5 CFR Parts 550, 595, and 610

Administrative practice and procedure, Claims, Government employees, Health professions, Holidays, Wages.

Office of Personnel Management.
Janice R. Lachance,
Director.

Accordingly, the interim regulations amending parts 550, 595, and 610 of title 5 of the Code of Federal Regulations, which were published at 64 FR 72457 on December 28, 1999, are adopted as final regulations with the following changes:

PART 610—HOURS OF DUTY

Subpart B—Holidays

1. The authority citation for part 610, subpart B, continues to read as follows:

Authority: 5 U.S.C. 6101; sec. 1(1) of E.O. 11228, 3 CFR, 1964-1965 Comp., p. 317.

2. Section 610.201 is revised to read as follows:

§ 610.201 Identification of holidays.

Agencies determine holidays under section 6103 of title 5, United States Code, and Executive Order 11582 of February 11, 1971.

3. In § 610.202, paragraph (a) is revised to read as follows:

§ 610.202 Determining the holiday.

* * * * *

(a) Except when employees are entitled to a different holiday under 5 U.S.C. 6103(b)(3), an employee's holiday is the day designated by 5 U.S.C. 6103(a) whenever part of the employee's basic workweek (as defined in § 610.102) or basic work requirement (as defined in 5 U.S.C. 6121(3)) is scheduled on that day.

* * * * *

[FR Doc. 00-19855 Filed 8-4-00; 8:45 am]

BILLING CODE 6325-01-P